DEPARTMENT OF HEALTH AND HUMAN SERVICES

Food and Drug Administration

[Docket No. 2006D-0214]

Streptomycin Residues in Cattle Tissues; Withdrawal of Compliance Policy Guide

AGENCY: Food and Drug Administration, HHS.

ACTION: Notice; withdrawal.

SUMMARY: The Food and Drug Administration (FDA) is announcing the withdrawal of the compliance policy guide (CPG) entitled “Sec. 616.100 Streptomycin Residues in Cattle Tissues (CPG 7125.22).” This CPG is obsolete.

DATES: The withdrawal is effective July 7, 2006.

FOR FURTHER INFORMATION CONTACT: Diane D. Jeang, Division of Compliance Policy (HFC-230), Food and Drug Administration, 5600 Fishers Lane, Rockville, MD 20857, 240-632-6833.

SUPPLEMENTARY INFORMATION: FDA issued the CGP entitled “Sec. 616.100 Streptomycin Residues in Cattle Tissues (CPG 7125.22)” on October 1, 1980. The CPG was issued because there were no published tolerances for residues of streptomycin in cattle tissue and the available data supported an action level of 2 part per million (ppm) streptomycin/dihydrostreptomycin residues in cattle kidney tissue. The U.S. Department of Agriculture, Food Safety Quality Service (now known as the Food Safety Inspection Service) agreed to report any detectable residues in other edible tissue and to report to FDA only those cattle kidney tissue reports where the streptomycin residue was 2 ppm or more.

Since issuing this CPG, FDA has established tolerances for dihydrostreptomycin (59 FR 41976, August 16, 1994) and streptomycin (58 FR 47210, September 8, 1993). Tolerances are established for residues of dihydrostreptomycin in uncooked, edible tissues of cattle and swine of 2.0 ppm in kidney and 0.5 ppm in other tissues, and 0.125 ppm in milk. (See 21 CFR 556.200.) Tolerances are established for residues of streptomycin in uncooked, edible tissues of chickens, swine, and calves of 2.0 ppm in kidney, and 0.5 ppm in other tissues. (See 21 CFR 556.610.)

FDA is withdrawing CPG 7125.22, in its entirety, to eliminate obsolete compliance policy.

Dated: June 20, 2006.
Margaret O'K. Glavin,
Associate Commissioner for Regulatory Affairs.

[FR Doc. E6-10671 Filed 7-6-06; 8:45 am]

BILLING CODE 4160-01-S